ENVIRONMENTAL PROTECTION AGENCY

[OPP-2003-0201; FRL-7312-5]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective on December 22, 2003, or July 25, 2003 for product registrations 001270-00222, 001812-00355, 002393-00375, 019713-00302, 019713-00359, 040322-00002, and 0042750-00015, unless the Agency receives a written withdrawal request on or before dates given above.

Users of these products who desire continued use on crops or sites being deleted should contact the applicable registrant on or before dates given above.

ADDRESSES: Written withdrawal requests may be submitted electronically, by mail, or through hand delivery/courier. Follow the detailed instructions as provided in Unit I. of the SUPPLEMENTARY INFORMATION. To ensure proper receipt by EPA, it is imperative that you identify docket ID number OPP-2003-0201 in the subject line on the first page of your response.

FOR FURTHER INFORMATION CONTACT: James A. Hollins, Information Resources and Services Division (7502C), Office of Pesticide Programs, Environmental Protection Agency, 1200 Pennsylvania Ave., NW., Washington, DC 20460-0001; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0201. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Written Withdrawal Requests?

i. Electronically. E-mail your written withdrawal requests to: James A. Hollins at hollins.james@epa.gov., Attention: Docket ID Number OPP-2003-0201.

ii. Disk or CD ROM. Written withdrawal requests on disk or CD ROM may be mailed to the address in Unit I.C.2. or delivered by hand or courier to the address in Unit I.C.3., Attention: Docket ID Number OPP-2003-0201. These electronic submissions will be accepted in WordPerfect or ASCII file format. Avoid the use of special characters and any form of encryption.

2. By mail. Send your written withdrawal requests to: James A. Hollins, Information Resources and Services Division (7502C), Office of Pesticide Programs, Environmental Protection Agency, 1200 Pennsylvania Ave., NW., Washington, DC 20460-0001, Attention: Docket ID Number OPP-2003-0201.

3. By hand delivery or courier. Deliver your written withdrawal requests to: Public Information and Records Integrity Branch (PIRIB), Office of Pesticide Programs (OPP), Environmental Protection Agency, Rm. 119, Crystal Mall #2, 1921 Jefferson Davis Hwy., Arlington, VA. Attention: Docket ID Number OPP-2003-0201. Such deliveries are only accepted during the docket's normal hours of operation as identified in Unit I.B.1.

II. What Action is the Agency Taking?

This notice announces receipt by the Agency of applications from registrants to delete uses in certain pesticide registrations. These registrations are listed in Table 1 of this unit by registration number, product name/active ingredient, and specific uses deleted.

Table 1.—Registrations With Requests for Amendments to Delete Uses in Certain Pesticide Registrations
Registration No. | Product Name | Active Ingredient | Delete From Label
001270-00222 | Zeposector A Spray Insecticide | d-trans-Allethrin; n-Octyl bicycloheptene dicarboximide; Piperonyl butoxide | Food/feed uses
001812-00355 | Trilin | Trifluralin | Eggplant, onion uses
002393-00375 | Hopkins Poultry and Garden Dust | Carbaryl | Poultry use
019713-00089 | Drexel Carbaryl 2L | Carbaryl | Poultry uses
019713-00302 | Green Devil Malathion Wettable Powder | Malathion | Apple and pear uses
019713-00359 | Best 4 Servis Brand 25% Malathion Wettable Powder | Malathion | Apples, pears, cabbage, broccoli, kale, mustard, turnips and potatoes
040322-00002 | B-Free of Flies | Dipropyl isocinchomeronate; Pyrethrins | Cattle use
042750-00015 | Albaugh 2,4-D LV4 | Acetic Acid | Red potatoes
062719-00100 | Balan Technical | Benfluralin | Peanuts
068156-00001 | Technical Benefin | Benfluralin | Peanuts

Users of these products who desire continued use on crops or sites being deleted should contact the applicable registrant before dates indicated in DATES section of this notice to discuss withdrawal of the application for amendment. This 30-day or 180-day period will also permit interested members of the public to intercede with registrants prior to the Agency's approval of the deletion.

Table 2 of this unit includes the names and addresses of record for all registrants of the products in Table 1 of this unit, in ascending sequence by EPA company number.

Table 2.—Registrants Requesting Voluntary Cancellation
EPA Company No. | Company Name and Address
001270 | Zep Manufacturing Company Agent for: Zep Manufacturing Company, 1310 Seaboard Industrial Blvd., NW, Atlanta, GA 30318
001812 | Griffin L.L.C., P.O. Box 1847, Valdosta, GA 31603
002393 | Haco Inc, P.O. Box 7190, Madison, WI 53707
019713 | Drexel Chemical Co, 1700 Channel Avenue, P.O. Box 13327, Memphis, TN 38113
040322 | Equine Chemical Co. Inc., P.O. Box 771, Skiatook, OK 74070
042750 | Pyxis Regulatory Consulting Agent for: Albaugh Inc., 11324 17th Avenue Court NW, Gig Harbor, WA 98332
062719 | Dow AgroSciences LLC, 9330 Zionsville Rd 308/2E225, Indianapolis, IN 46268
068156 | Dintec AgriChemicals, 9330 Zionsville Rd, Indianapolis, IN 46268

III. What is the Agency Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to James A. Hollins using the instructions in Unit I.C. The Agency will consider written withdrawal requests postmarked on or before dates indicated in DATES section of this notice.

V. Provisions for Disposition of Existing Stocks

The Agency has authorized the registrants to sell or distribute products under the previously approved labeling for a period of 18 months after approval of the revision, unless other restrictions have been imposed, as in Special Review actions.

List of Subjects

Environmental protection, Pesticides and pests.

Dated: June 11, 2003.
Arnold E. Layne,
Director, Information Resources and Services Division, Office of Pesticide Programs.

[FR Doc. 03-16031 Filed 6-24-03; 8:45 am]

BILLING CODE 6560-50-S